DEPARTMENT OF THE INTERIOR

Bureau of Land Management

[UT-090-06-1220-PM]

Revision of Recreation Use Restrictions for Indian Creek Canyon Corridor: Off-Highway Vehicle Use Restrictions

AGENCY: Department of Interior, Bureau of Land Management.

ACTION: Notice of OHV use restrictions.

SUMMARY: Notice is hereby given that, effective immediately, the Bureau of Land Management (BLM), Monticello Field Office, is restricting off-highway vehicle (OHV) travel to existing roads and trails on approximately 100,000 acres of public lands in the Indian Creek Canyon area near Monticello, UT. The public lands affected by this restriction are located in portions of T. 29 S., R. 19-21 E; T. 30 S., R. 19-22 E.; T. 31 S., R. 20-22 E; T. 32 S., R. 20-22 E. The Indian Creek Management boundary is depicted on the attached map. The purpose of this restriction is to protect riparian, soils, riparian, vegetation, visual and cultural resources that have been adversely impacted, or are at risk of being adversely impacted by cross-country OHV travel.

The restriction will remain in effect until the Monticello Resource Management Plan Revision is completed.

FOR FURTHER INFORMATION CONTACT: Nick Sandberg, Acting Field Office Manager, Monticello Field Office, Bureau of Land Management, P.O. Box 7, Monticello, Utah, 84535; (435) 587-1500.

SUPPLEMENTARY INFORMATION: BLM is implementing this action on approximately 100,000 acres of public land in the Indian Creek Corridor area in San Juan County, which is located in southeast Utah. BLM's Monticello Field Office has observed and documented considerable adverse effects from cross-country OHV use in this area to soils, riparian, vegetation, visual and cultural resources. Based on this information, BLM's authorized officer has determined that cross-country OHV use in this area is causing, or will cause, considerable adverse effects upon soils, riparian, vegetation, visual and cultural resources. Consequently, OHV travel in this area is being limited to existing roads and trails. A map showing the restriction area is available for public inspection at the BLM's Monticello Field Office, at the above address. OHV use on the remainder of the public lands in San Juan County, Utah administered by BLM will be managed according to existing Federal Register orders and the 1991 San Juan Resource Area Resource Management Plan.

This restriction order does not apply to:

(1) Any federal, state or local government law enforcement officer engaged in enforcing this closure order or member of an organized rescue or fire fighting force while in the performance of an official duty.

(2) Any Bureau of Land Management employee, agent, contractor, or cooperator while in the performance of an official duty.

This order shall not be construed as a limitation on BLM's future planning efforts and/or management of OHV use on the public lands. BLM will periodically monitor resource conditions and rends in the restriction area and may modify this order or implement additional limitations or closures as necessary.

The authority for this order is 43 CFR 8342.1.

Dated: September 14, 2007.
Sherwin N. Sandberg,
Field Office Manager.

[FR Doc. E7-18621 Filed 9-21-07; 8:45 am]

BILLING CODE 4310-DQ-P